DEPARTMENT OF AGRICULTURE

Federal Crop Insurance Corporation

[Docket No. FCIC-20-0002]

Notice of Request for Extension of a Currently Approved Information Collection

AGENCY: Federal Crop Insurance Corporation, USDA.

ACTION: Extension of approval of an information collection; comment request.

SUMMARY: This notice announces a public comment period on the information collection requests (ICRs) associated with the Subpart U—Ineligibility for Programs under the Federal Crop Insurance Act.

DATES: Comments that we receive on this notice will be accepted until close of business April 20, 2020.

ADDRESSES: We invite you to submit comments on this information collection request (ICR). In your comments, include the date, volume, and page number of this issue of the Federal Register and the title of ICR. You may submit comments by any of the following methods, although FCIC prefers that you submit comments electronically through the Federal eRulemaking Portal:

• Federal eRulemaking Portal: Go to http://www.regulations.gov and search for Docket ID FCIC-20-0002. Follow the online instructions for submitting comments.

• Mail: Director, Product Administration and Standards Division, Risk Management Agency, United States Department of Agriculture, P.O. Box 419205, Kansas City, MO 64133-6205.

All comments received, including those received by mail, will be posted without change and publicly available on http://www.regulations.gov.

FOR FURTHER INFORMATION CONTACT: Francie Tolle; telephone (816) 926-7829; email francie.tolle@usda.gov. Persons with disabilities who require alternative means of communication should contact the USDA Target Center at (202) 720-2600 (voice).

SUPPLEMENTARY INFORMATION:

Title: 7 CFR, part 400, subpart U—Ineligibility for Programs under the Federal Crop Insurance Act.

OMB Control Number: 0563-0085.

Type of Request: Notice of Request for Extension of a Currently Approved Information Collection.

Abstract: The following mandates require FCIC to identify persons who are ineligible to participate in the Federal crop insurance program administered under the Federal Crop Insurance Act.

(1) Section 1764 of the Food Security Act of 1985 (Pub. L. 99-198);

(2) 21 U.S.C., Chapter 13;

(3) Section 14211 of the Food, Conservation, and Energy Act of 2008 (Pub. L. 110-246);

(4) Executive Order 12549; and

(5) 7 U.S.C. 1515.

The FCIC and Approved Insurance Providers (AIPs) use the information collected to determine whether persons seeking to obtain Federal crop insurance coverage are ineligible for such coverage according to the aforementioned mandates. The purpose of collecting the information is to ensure persons that are ineligible for benefits under the Federal crop insurance program are accurately identified as such and do not obtain benefits to which they are not eligible.

FCIC and RMA do not obtain information used to identify a person as ineligible for benefits under the Federal crop insurance program directly from the ineligible person. AIPs notify RMA of persons with a delinquent debt electronically through a secure automated system. RMA (1) sends written notification to the person informing them they are ineligible for benefits under the Federal crop insurance program; and (2) places that person on the RMA Ineligible Tracking System until the person regains eligibility for such benefits.

RMA's Office of General Counsel notifies RMA in writing of persons convicted of controlled substance violations. RMA (1) sends written notification to the person informing them they are ineligible for benefits under the Federal crop insurance program; and (2) places that person on RMA's Ineligible Tracking System until the person regains eligibility for such benefits.

Persons debarred, suspended or disqualified by RMA are (1) notified, in writing, they are ineligible for benefits under the Federal crop insurance program; and (2) placed on RMA's Ineligible Tracking System until the person regains eligibility for such benefits.

Information identifying persons who are ineligible for benefits under the Federal crop insurance program is made available to all AIPs through RMA's Ineligible Tracking System. The Ineligible Tracking System is an electronic system, maintained by RMA, which identifies persons who are ineligible to participate in the Federal crop insurance program. The information must be made available to all AIPs to ensure ineligible persons cannot circumvent the mandates by switching from one AIP to another.

In addition, information identifying persons who are debarred, suspended or disqualified by RMA is provided to the General Services Administration to be included in the Excluded Parties List System, an electronic system maintained by the General Services Administration that provides current information about persons who are excluded or disqualified from covered transactions.

Estimate of burden: Reporting burden for the collection and transmission of information by AIPs, including reporting for late payment of debt for AIP reinstatement and Administrator reinstatement, is estimated to average 19 minutes per response.

Respondents: Approved Insurance Providers.

Estimated number of respondents: 14 AIPs.

Estimated number of forms per respondent: All information is obtained electronically from AIPs.

Estimated total annual responses: 8,428 from all respondents.

Estimated total annual respondent burden: 2,647 from all respondents.

We are requesting comments on all aspects of this information collection to help us to:

(1) Evaluate whether the collection of information is necessary for the proper performance of the functions of the agencies, including whether the information will have practical utility;

(2) evaluate the accuracy of the agency's estimate of burden including the validity of the methodology and assumptions used;

(3) enhance the quality, utility and clarity of the information to be collected; and

(4) minimize the burden of the collection of information on those who are to respond.

All responses to this notice will be summarized and included in the request for OMB approval. All comments will also become a matter of public record.

Martin R. Barbre,
Manager, Federal Crop Insurance Corporation.

[FR Doc. 2020-03162 Filed 2-18-20; 8:45 am]

BILLING CODE 3410-34-P